DEPARTMENT OF HOUSING AND URBAN DEVELOPMENT

[Docket No. FR-5200-FA-09]

Announcement of Funding Awards for the Public Housing Family Self-Sufficiency for Fiscal Year 2008

AGENCY: Office of Public and Indian Housing, HUD.

ACTION: Announcement of funding awards.

SUMMARY: In accordance with Section 102(a)(4)(C) of the Department of Housing and Urban Development Reform Act of 1989, this announcement notifies the public of funding decisions made by the Department for funding under the FY 2008 Notice of Funding Availability (NOFA) for the Public and Indian Housing Family Self-Sufficiency Program Coordinators under Resident Opportunities and Self-Sufficiency (ROSS) Program for Fiscal Year 2008. This announcement contains the consolidated names and addresses of those award recipients selected for funding based on the funding priority categories established in the NOFA.

FOR FURTHER INFORMATION CONTACT: For questions concerning the FY 2008 Public Housing Family Self-Sufficiency under ROSS awards, contact the Office of Public and Indian Housing's Grant Management Center, Acting Director, Keia L. Neal, Department of Housing and Urban Development, Washington, DC, telephone (202) 475-8908. For the hearing or speech impaired, these numbers may be accessed via TTY (text telephone) by calling the Federal Information Relay Service at 1 (800) 877-8339. (Other than the “800” TTY number, these telephone numbers are not toll-free.)

SUPPLEMENTARY INFORMATION: The authority for the $12,000,000 in one-year budget authority for Public Housing Family Self-Sufficiency Program Coordinators under ROSS is found in the Departments of Veteran Affairs and Housing and Urban Development, and Independent Agencies Appropriations Act, 2008 (Pub. L. 110-161). The allocation of housing assistance budget authority is pursuant to the provisions of 24 CFR part 791, subpart D, implementing section 213 (d) of the Housing and Community Development Act of 1974, as amended.

This program is intended to promote the development of local strategies to coordinate the use of assistance with public and private resources to enable participating families to achieve economic independence and housing self-sufficiency. A Public Housing Family Self-Sufficiency Program Coordinator assures that program participants are linked to the supportive services they need to achieve self-sufficiency.

The Fiscal Year 2008 awards announced in this Notice were selected for funding in a competition announced in the Federal Register NOFA published on May 12, 2008. In accordance with Section 102(a)(4)(C) of the Department of Housing and Urban Development Reform Act of 1989 (103 Stat. 1987, 42 U.S.C. 3545), the Department is publishing the names, addresses, and amounts of the 206 awards made under the Public Housing Family Self-Sufficiency competition.

Dated: March 19, 2009.
Paula O. Blunt,
General Deputy Assistant Secretary for Public and Indian Housing.

Appendix A—Fiscal Year 2008 Funding Awards for the PH Family Self-Sufficiency Program
Organization | Address/City/State/Zip Code | Amount
Alexander City Housing Authority | 2110 County Road, Alexander City, AL 35010 | 37,644
Jefferson County Housing Authority | 3700 Industrial Parkway, Birmingham, AL 35217 | 54,045
Mobile Housing Board | 151 S. Claiborne Street, Mobile, AL 36602 | 54,232
Prichard Housing Authority | 4559 St. Stephens Road , Eight Mile, AL 36613 | 47,472
The Housing Authority of the City of Huntsville | 200 Washington Street, Huntsville, AL 35804 | 55,000
The Housing Authority of the City of Montgomery, Alabama | 1020 Bell Street, Montgomery, AL 36104 | 41,025
Tuscaloosa Housing Authority | 2808 10th Avenue, Tuscaloosa, AL 35401 | 38,686
Housing Authority of the City of North Little Rock | 2201 Division, North Little Rock, AR 72114 | 38,297
Housing Authority of the City of West Memphis | 2820 Harrison Street, West Memphis, AR 72301 | 41,000
City of Phoenix Housing Department | 251 W. Washington, 4th Floor, Phoenix, AZ 85003 | 65,500
City of Tucson | P.O. Box 27210, 310 N. Commerce Park Loop, Tucson, AZ 85726 | 68,000
Housing Authority of the City of Yuma | 420 South Madison Avenue, Yuma, AZ 85364 | 58,873
Housing Authority of Maricopa County | 2024 N 7th Street, Suite 101, Phoenix, AZ 85006 | 47,486
Bear River Band of Rohnerville Rancheria | 27 Bear River Drive, Loleta, CA 95551 | 67,208
Housing Authority of the City of Madera | 205 North G Street, Madera, CA 93638 | 51,248
Housing Authority of the City of Oakland | 1619 Harrison Street, Oakland, CA 94612 | 66,836
Housing Authority of the City of Oxnard | 435 South D Street, Oxnard, CA 93030 | 68,000
Housing Authority of the City of San Buenaventura | 995 Riverside Street, Ventura, CA 93001 | 67,465
Housing Authority of the City of San Luis Obispo | 487 Leff Street, San Luis Obispo, CA 93401 | 51,486
Housing Authority of the City of Santa Barbara | 808 Laguna Street, Santa Barbara, CA 93101 | 65,000
Housing Authority of the County of Kern | 601-24th Street, Bakersfield, CA 93301 | 60,909
Housing Authority of the County of Marin | 4020 Civic Center Drive, San Rafael, CA 94903 | 65,000
Housing Authority of the County of San Bernardino | 715 E. Brier Drive, San Bernardino, CA 92408 | 67,465
Housing Authority of the County of San Joaquin | 448 S. Center Street, Stockton, CA 95203 | 113,528
Housing Authority of the County of Santa Cruz | 2931 Mission Street, Santa Cruz, CA 95060 | 67,465
Housing Authority of the County of Stanislaus | P.O. Box 581918, 1701 Robertson Road, Modesto, CA 95358 | 65,000
Boulder Housing Partners aba Housing Authority of City of B | 4800 Broadway, Boulder, CO 80503 | 68,000
Fort Collins Housing Authority | 1715 West Mountain Avenue, Fort Collins, CO 80521 | 68,000
Housing Authority of the City & County of Denver | 777 Grant Street, Denver, CO 80203 | 229,275
The Housing Authority of the City of Loveland | 375 W. 37th Street, Suite 200, Loveland, CO 80538 | 67,465
Housing Authority of the City of Meriden | 22 Church Street, Meriden, CT 6451 | 55,179
Housing Authority of the City of Norwalk | P.O. Box 508, 24½ Monroe Street, Norwalk, CT 6856 | 67,465
Housing Authority of the Town of Greenwich | 249 Milbank Avenue, Greenwich, CT 6830 | 67,465
Dover Housing Authority | 76 Stevenson Drive, Dover, DE 19901 | 37,610
Hialeah Housing Authority | 75 East 6th Street, Hialeah, FL 33010 | 37,981
Housing Authority of Brevard County | 615 Kurek Court, Merritt Island, FL 32953 | 53,614
Housing Authority of City of Ft. Pierce | 707 North 7th Street, Fort Pierce, FL 34950 | 45,320
Housing Authority of Lakeland | 430 Hartsell Avenue, Lakeland, FL 33815 | 49,094
Housing Authority of the City of Fort Myers | 4224 Michigan Avenue, Fort Myers, FL 33916 | 56,643
Jacksonville Housing Authority | 1300 Broad Street, Jacksonville, FL 32202 | 43,657
Lee County Housing Authority | 14170 Warner Circle, N.W., N. Fort Myers, FL 33903 | 46,000
Sarasota Housing Authority (SHA) | 1300 Boulevard of the Arts, Sarasota, FL 34236 | 45,000
The Housing Authority of the City of Bradenton, FL | 2002 9th Avenue E., Bradenton, FL 34208 | 46,813
The Housing Authority of the City of Daytona Beach | 211 N. Ridgewood Avenue, Suite 200, Daytona Beach, FL 32114 | 42,436
The Housing Authority of the City of Tampa | 1514 Union Street, Tampa, FL 33607 | 63,714
The West Palm Beach Housing Authority | 1715 Division Avenue, West Palm Beach, FL 33407 | 37,898
Carrollton Housing Authority | 1 Roop Street, Carrollton, GA 30117 | 57,568
Housing Authority of Columbus Georgia | P.O. Box 630, 1000 Wynnton Road, Columbus, GA 31902 | 45,000
Housing Authority of the City of Albany, GA | P.O. Box 485, 521 Pine Avenue, Albany, GA 31702 | 29,066
Macon Housing Authority | 2015 Felton Avenue, Macon, GA 31201 | 61,522
Northwest Georgia Housing Authority | 800 North Fifth Avenue, Rome, GA 30162 | 44,195
Hawaii Public Housing Authority | P.O. Box 17907, Honolulu, HI 96817 | 65,000
City of Des Moines Municipal Housing Agency | 100 E. Euclid Avenue, Suite 101, Des Moines, IA 50313 | 30,602
Eastern Iowa Regional Housing Authority | 3999 Pennsylvania Avenue, Suite 200, Dubuque, IA 52002 | 62,915
Nampa Housing Authority | 211—19th Avenue North, Nampa, ID 83687 | 41,290
Chicago Housing Authority | 60 E. Van Buren Street, Chicago, IL 60605 | 54,635
Housing Authority of Greene County | P.O. Box 336, 325 North Carr, White Hall, IL 62092 | 45,910
Housing Authority of Henry County | 125 N. Chestnut Street, Kewanee, IL 61443 | 46,110
Housing Authority of the City of Rock Island | 227—21st Street, Rock Island, IL 61201 | 67,465
Macoupin County Housing Authority | P.O. Box 226, 760 Anderson Street, Carlinville, IL 62626 | 41,375
Peoria Housing Authority | 100 S. Richard Pryor Place, Peoria, IL 61605 | 48,073
Rockford Housing Authority | 223 S. Winnebago Street, Rockford, IL 61102 | 65,005
Springfield Housing Authority | 200 North Eleventh Street, Springfield, IL 62703 | 37,080
Housing Authority of the City of Fort Wayne, Indiana | P.O. Box 13489, 7315 Hanna Street, Fort Wayne, IN 46869 | 43,878
Housing Authority of the City of Terre Haute | P.O. Box 3086, Terre Haute, IN 47803 | 61,702
Housing Authority, City of Elkhart | 1396 Benham Avenue, Elkhart, IN 46516 | 38,629
Indianapolis Housing Agency | 1919 N. Meridian Street, Indianapolis, IN 46202 | 45,000
The Housing Authority of the City of Michigan City, Indiana | 621 East Michigan Boulevard, Michigan City, IN 46360 | 40,170
Lawrence-Douglas County Housing Authority | 1600 Haskell Avenue, Lawrence, KS 66044 | 62,852
Salina Housing Authority | PO Box 1202, 469 S. 5th Street, Salina, KS 67401 | 56,650
Housing Authority of Bowling Green | 247 Double Springs Road, Bowling Green, KY 42101 | 45,000
Housing Authority of Glasgow | P.O. Box 1745, 111 Bunche Ave., Glasgow, KY 42142 | 39,448
Louisville Metro Housing Authority | 420 South Eighth Street, Louisville, KY 40203 | 66,689
Housing Authority of New Orleans | 4100 Touro Street, New Orleans, LA 70122 | 68,000
Jefferson Parish Housing Authority | 1718 Betty Street, Marrero, LA 70072 | 44,557
Shreveport Housing Authority | 2500 Line Avenue, Shreveport, LA 71104 | 36,220
Boston Housing Authority | 52 Chauncy Street, Boston, MA 2111 | 68,000
Framingham Housing Authority | 1 John J. Brady Drive, Framingham, MA 1702 | 66,950
Lynn Housing Authority & Neighborhood Development (LHAND) | 10 Church Street, Lynn, MA 1902 | 50,027
Somerville Housing Authority | 30 Memorial Road, Somerville, MA 2145 | 65,500
Worcester Housing Authority | 40 Belmont Street, Worcester, MA 1605 | 65,500
Housing Authority of Baltimore City | 417 E. Fayette Street, Room 923, Baltimore, MD 21202 | 67,465
Housing Authority of St. Mary's County, Maryland | 21155 Lexwood Drive, Suite C, Lexington Park, MD 20653 | 40,784
Housing Authority of the City of Frederick | 209 Madison Street, Frederick, MD 21701 | 51,500
Housing Authority of the City of Hagerstown | 35 W. Baltimore Street, Hagerstown, MD 21740 | 98,840
Housing Commission of Anne Arundel County | 7477 Baltimore-Annapolis Boulevard, Glen Burnie, MD 21061 | 63,000
Housing Opportunities Commission | 10400 Detrick Avenue, Kensington, MD 20895 | 133,042
Rockville Housing Enterprises | 621-A Southlawn Lane, Rockville, MD 20850 | 21,750
Housing Authority of the City of Brewer | 15 Colonial Circle, Suite 1, Brewer, ME 4412 | 49,799
Lewiston Housing Authority | 1 College Street, Lewiston, ME 4240 | 16,824
Portland Housing Authority | 14 Baxter Boulevard, Portland, ME 4101 | 18,057
Grand Rapids Housing Commission | 1420 Fuller Avenue, SE., Grand Rapids, MI 49507 | 65,500
Muskegon Housing Commission | 1080 Terrace, Muskegon, MI 49442 | 43,313
Saginaw Housing Commission | 1803 Norman Street, Saginaw, MI 48605 | 48,676
Housing & Redevelopment Authority of Virginia MN | 442 Pine Mill Court, Virginia, MN 55792 | 54,487
Housing Authority of St. Louis Park | 5005 Minnetonka Blvd., St. Louis Park, MN 55416 | 17,000
Washington County Housing and Redevelopment Authority | 321 Broadway Avenue, Saint Paul Park, MN 55071 | 27,569
Housing Authority of Kansas City, Missouri | 301 East Armour, Kansas City, MO 64111 | 52,634
Housing Authority of the City of Columbia, MO | 201 Switzler Street, Columbia, MO 65203 | 49,388
St. Louis Housing Authority | 4100 Lindell Boulevard, St. Louis, MO 63108 | 68,000
The Housing Authority of the City of Saint Charles | 1041 Olive Street, Saint Charles, MO 63301 | 40,820
Housing Authority of the City of Biloxi | P.O. Box 447, 330 Benachi Avenue, Biloxi, MS 39533 | 42,230
Natchez Housing Authority | 2 Auburn Avenue, Natchez, MS 39120 | 59,877
The Housing Authority of the City of Meridian | 2425 E. Street, Meridian, MS 39301 | 49,306
Burlington Housing Authority | P.O. Box 2380, 133 North Ireland Street, Burlington, NC 27217 | 55,129
Charlotte Housing Authority | 1301 South Boulevard, Charlotte, NC 28214 | 65,000
City of Concord Housing Department | P.O. Box 308, 283 Harold Goodman Circle, Concord, NC 28026 | 45,780
City of Hickory Public Housing Authority | P.O. Box 2927, Hickory, NC 28603 | 47,199
Gastonia Housing Authority | P.O. Box 2398, 340 West Long Avenue, Gastonia, NC 28053 | 50,000
Greensboro Housing Authority | 450 N. Church Street, Greensboro, NC 27401 | 60,670
Housing Authority of the City of Asheville | 165 South French Broad Avenue, Asheville, NC 28802 | 55,000
Housing Authority of the City of Greenville | 1103 Broad Street, Greenville, NC 27835 | 56,906
Housing Authority of the City of High Point | 500 East Russell Avenue, High Point, NC 27261 | 98,712
Housing Authority of the City of Kinston, North Carolina | 608 N Queen Street, Kinston, NC 28501 | 44,261
Housing Authority of the City of Winston-Salem | 500 West Fourth Street, Suite 300, Winston-Salem, NC 27101 | 53,030
Lexington Housing Authority | 1 Jamaica Drive, Lexington, NC 27292 | 54,721
Statesville Housing Authority | 110 W. Allison Street, Statesville, NC 28677 | 97,718
The Housing Authority of the City of Durham | P.O. Box 1726, 330 East Main Street, Durham, NC 27701 | 66,950
Housing Authority of the City of Lincoln | 5700 R Street, Lincoln, NE 68505 | 48,879
Housing Authority of the City of Omaha | 540 S. 27th Street, Omaha, NE 68105 | 42,169
Kearney Housing Agency | 2715 Avenue I OFC, Kearney, NE 68847 | 48,158
Atlantic City Housing Authority | 227 N. Vermont Avenue, 17th Floor, Atlantic City, NJ 08401 | 54,732
Housing Authority County of Morris | 99 Ketch Road, Morristown, NJ 07960 | 35,000
Housing Authority of the City of Camden | 2021 Watson Street, Camden, NJ 08105 | 46,221
Millville Housing Authority | 309 Buck Street, Millville, NJ 08360 | 45,320
The Housing Authority of Plainfield | 510 East Front Street, Plainfield, NJ 07060 | 68,000
The Newark Housing Authority | 500 Broad Street, 2nd Floor, Newark, NJ 07102 | 68,000
Clovis Housing & Redevelopment Agency, Inc | P.O. Box 1240, 2101 W. Grand Avenue, Clovis, NM 88101 | 42,436
Santa Fe Civic Housing Authority | 664 Alta Vista Street, Santa Fe, NM 87505 | 54,280
Santa Fe County Housing Authority | 52 Camino de Jacobo, Santa Fe, NM 87507 | 53,339
Taos County Housing Authority | 525 Ranchitos Road, Box 4239, Taos, NM 87571 | 47,380
Truth or Consequences Housing Authority | 108 S. Cedar, Truth or Consequences, NM 87901 | 53,000
Housing Authority of the City of Las Vegas | 340 N. 11th Street, Las Vegas, NV 89101 | 123,309
Housing Authority of the City of Reno | 1525 East 9th Street, Reno, NV 89512 | 27,392
Housing Authority of the County of Clark, Nevada | 5390 E. Flamingo Road, Las Vegas, NV 89122 | 51,984
Buffalo Municipal Housing Authority | 300 Perry Street, Buffalo, NY 14204 | 66,887
Cohoes Housing Authority | 100 Manor Sites, Cohoes, NY 12047 | 14,705
Geneva Housing Authority | P.O. Box 153, 41 Lewis Street, Geneva, NY 14456 | 63,100
Monticello Housing Authority | 76 Evergreen Drive, Monticello, NY 12701 | 36,565
Municipal Housing Authority of the City of Schenectady | 375 Broadway, Schenectady, NY 12305 | 53,916
Municipal Housing Authority of the City of Utica, New York | 509 2nd Street, Suite 1, Utica, NY 13501 | 66,950
New Rochelle Municipal Housing Authority | 50 Sickles Avenue, New Rochelle, NY 10801 | 67,465
Troy Housing Authority | One Eddy's Lane, Troy, NY 12180 | 58,437
Akron Metropolitan Housing Authority | 100 W. Cedar Street, Akron, OH 44307 | 124,010
Chillicothe Metropolitan Housing Authority | 178 W. Fourth Street, Chillicothe, OH 45601 | 47,436
Fairfield Metropolitan Housing Authority | 315 North Columbus Street, Suite 200, Lancaster, OH 43130 | 55,465
Geauga Metropolitan Housing Authority | 385 Center Street, Chardon, OH 44024 | 60,000
Lorain Metropolitan Housing Authority | 1600 Kansas Avenue, Lorain, OH 44052 | 36,500
Lucas Metropolitan Housing Authority | P.O. Box 477, 435 Nebraska Avenue, Toledo, OH 43604 | 51,947
Morgan Metropolitan Housing Authority | 4580 N. Street, Route 376 NW., McConnelsville, OH 43756 | 46,987
Springfield Metropolitan Housing Authority | 101 West High Street, Springfield, OH 45502 | 43,765
Trumbull Metropolitan Housing Authority | 4076 Youngstown Rd., SE., Suite 101, Warren, OH 44484 | 47,204
Youngstown Metropolitan Housing Authority | 131 W. Boardman Street, Youngstown, OH 44503 | 57,785
Zanesville Metropolitan Housing Authority | 407 Pershing Road, Zanesville, OH 43701 | 49,988
Housing Authority of the City of Muskogee | 220 North 40th Street, Muskogee, OK 74401 | 41,200
Housing Authority of the City of Shawnee, OK | P.O. Box 3427, 601 West 7th Street, Shawnee, OK 74802 | 97,504
Housing Authority of the City of Tulsa | 415 East Independence, Tulsa, OK 74106 | 44,031
Housing Authority & Community Services Agency of Lane County | 177 Day Island Road, Eugene, OR 97401 | 67,465
Housing Authority & Urban Renewal Agency of Polk County | P.O. Box 467, 204 SW. Walnut Avenue, Dallas, OR 97338 | 14,970
Housing Authority of Portland | 135 SW. Ash, Portland, OR 97204 | 195,000
Housing Authority of the City of Salem | 360 Church Street, SE., Salem, OR 97301 | 67,450
Umatilla Reservation Housing Authority | 51 Umatilla Loop, Pendleton, OR 97801 | 65,000
Allegheny County Housing Authority | 625 Stanwix Street, 12th Floor, Pittsburgh, PA 15222 | 66,435
Altoona Housing Authority | 2700 Pleasant Valley Boulevard, Altoona, PA 16602 | 55,023
Housing Authority of Northumberland County | 50 Mahoning Street, Milton, PA 17847 | 52,154
Housing Authority of the City of Pittsburgh | 200 Ross Street, Pittsburgh, PA 15219 | 45,886
Philadelphia Housing Authority | 12 South 23rd Street, 6th Floor, Philadelphia, PA 19103 | 65,500
Westmoreland County Housing Authority | 154 South Greengate Road, Greensburg, PA 15601 | 57,194
The Housing Authority of the City of Providence | 100 Broad Street, Providence, RI 2903 | 67,465
Housing Authority of the City of Columbia, South Carolina | 1917 Harden Street, Columbia, SC 29204 | 48,329
North Charleston Housing Authority | 2170 Ashley Phosphate Road, Suite 700, North Charleston, SC 29406 | 50,000
The Housing Authority of the City of Greenville, SC | 511 Augusta Street, Greenville, SC 29605 | 41,683
The Housing Authority of the City of Spartanburg | P.O. Box 2828, 201 Caulder Avenue, Spartanburg, SC 29304 | 48,667
Jackson Housing Authority | 125 Preston Street, Jackson, TN 38301 | 95,454
Kingsport Housing & Redevelopment Authority | P.O. Box 44, Kingsport, TN 37662 | 59,338
Memphis Housing Authority | 700 Adams Avenue, Memphis, TN 38105 | 66,950
Metropolitan Development and Housing Agency | 701 South Sixth Street, Nashville, TN 37206 | 129,784
Town of Crossville Housing Authority | P.O. Box 425, Crossville, TN 38557 | 53,575
Housing Authority of the City of Austin | P.O. Box 6159, Austin, TX 78762 | 103,076
Housing Authority of the City of Beaumont | 1890 Laurel, Beaumont, TX 77701 | 29,456
Housing Authority of the City of Fort Worth | 1201 E. 13th Street, Fort Worth, TX 76102 | 66,950
Housing Authority of the City of Waco | P.O. Box 978, 4400 Cobbs Drive, Waco, TX 76703 | 49,729
Housing Authority of the County of Hidalgo | 1800 N. Texas, Weslaco, TX 78596 | 39,338
Houston Housing Authority | 2640 Fountainview, Suite 400, Houston, TX 77057 | 51,500
San Antonio Housing Authority | 818 South Flores, San Antonio, TX 78204 | 280,456
San Marcos Housing Authority | 1201 Thrope Lane, San Marcos, TX 78666 | 39,656
Housing Authority of the County of Salt Lake | 3595 South Main Street, Salt Lake, UT 84115 | 56,228
Bristol Redevelopment and Housing Authority | 809 Edmond Street, Bristol, VA 24201 | 39,441
Chesapeake Redevelopment & Housing Authority | 1468 S. Military Highway, Chesapeake, VA 23320 | 47,448
Danville Redevelopment and Housing Authority | 135 Jones Crossing, Danville, VA 24541 | 45,894
Fairfax County Redevelopment and Housing Authority | 3700 Pender Drive, Suite 300, Fairfax, VA 22030 | 68,000
Newport News Redevelopment and Housing Authority | P.O. Box 797, 227 27th Street, Newport News, VA 23607 | 46,000
Norfolk Redevelopment and Housing Authority | 201 Granby Street, Norfolk, VA 23510 | 134,930
Portsmouth Redevelopment & Housing Authority | 801 Water Street, 2nd Floor, Portsmouth, VA 23704 | 52,164
Richmond Redevelopment & Housing Authority | 901 Chamberlayne Parkway, Richmond, VA 23261 | 65,500
Roanoke Redevelopment and Housing Authority | 2624 Salem Turnpike, NW., Roanoke, VA 24017 | 107,435
Waynesboro Redevelopment and Housing Authority | P.O. Box 1138, 1700 New Hope Road, Waynesboro, VA 22980 | 41,800
Housing Authority of the City of Bremerton | 110 Russell Road, Bremerton, WA 98312 | 45,885
Housing Authority of the City of Tacoma | 902 South L Street, Tacoma, WA 98405 | 56,238
Housing Authority of the City of Vancouver | 2500 Main Street, Vancouver, WA 98660 | 62,000
King County Housing Authority | 600 Andover Park West, Tukwila, WA 98188 | 64,908
Seattle Housing Authority | P.O. Box 19028, 120 6th Avenue North, Seattle, WA 98109 | 58,947
Housing Authority of the City of Milwaukee | P.O. Box 324, Milwaukee, WI 53201 | 66,000
Charleston-Kanawha Housing Authority | 911 Michael Avenue, Charleston, WV 25312 | 35,200
Parkersburg Housing Authority | 1901 Cameron Ave., Parkersburg, WV 26101 | 36,503
Wheeling Housing Authority | P.O. Box 2089, 11 Community Street, Wheeling, WV 26003 | 45,000

[FR Doc. E9-6811 Filed 3-26-09; 8:45 am]

BILLING CODE 4210-67-P